DEPARTMENT OF ENERGY

Federal Energy Regulatory Commission

Combined Notice of Filings

Take notice that the Commission received the following Complaints and Compliance filings in EL Dockets:

Docket Numbers: EL24-26-000; ER24-2690-000; ER22-2931-000.

Applicants: PJM Interconnection, L.L.C., PJM Interconnection, L.L.C., PJM Interconnection, L.L.C.

Description: PJM Interconnection, L.L.C. submit a compliance filing in Docket No. ER24-2690-000 to the 12/20/2023 Commission Order.

Filed Date: 8/2/24.

Accession Number:20240802-5172.

Comment Date: 5 p.m. ET 8/22/24.

Take notice that the Commission received the following electric rate filings:

Docket Numbers: ER24-1268-002.

Applicants: The Dayton Power and Light Company, PJM Interconnection, L.L.C.

Description: Compliance filing: The Dayton Power and Light Company submits tariff filing per 35: AES Ohio Compliance Revising OATT, Att. H-15A in ER24-1268 to be effective 4/17/2024.

Filed Date: 8/12/24.

Accession Number: 20240812-5086.

Comment Date: 5 p.m. ET 9/3/24.

Docket Numbers: ER24-2003-001.

Applicants: Southwest Power Pool, Inc.

Description: Tariff Amendment: Deficiency Response—Nomination of Candidate LTCRs for FSEs and GFA Carve Outs to be effective 7/14/2024.

Filed Date: 8/12/24.

Accession Number: 20240812-5123.

Comment Date: 5 p.m. ET 9/3/24.

Docket Numbers: ER24-2447-001.

Applicants: PJM Interconnection, L.L.C.

Description: Tariff Amendment: Deficiency Response and Request for Shortened Comment Period in ER24-2447 to be effective 8/31/2024.

Filed Date: 8/9/24.

Accession Number: 20240809-5153.

Comment Date: 5 p.m. ET 8/23/24.

Docket Numbers: ER24-2746-000.

Applicants: Portland General Electric Company.

Description: § 205(d) Rate Filing: PGE OATT Att C Amendment NAESB WEQ-023 to be effective 10/9/2024.

Filed Date: 8/9/24.

Accession Number: 20240809-5167.

Comment Date: 5 p.m. ET 8/30/24.

Docket Numbers: ER24-2747-000.

Applicants: Southern Illinois Power Cooperative.

Description: Petition for Limited Waiver of Southern Illinois Power Cooperative.

Filed Date: 8/5/24.

Accession Number: 20240805-5173.

Comment Date: 5 p.m. ET 8/26/24.

Docket Numbers: ER24-2748-000.

Applicants: El Paso Electric Company.

Description: § 205(d) Rate Filing: Service Agreement No. 406, Unexecuted EPE and Mesquite PV I, LLC LGIA to be effective 7/30/2024.

Filed Date: 8/9/24.

Accession Number: 20240809-5172.

Comment Date: 5 p.m. ET 8/30/24.

Docket Numbers: ER24-2751-000.

Applicants: Southwest Power Pool, Inc.

Description: Tariff Amendment: 3862&3863 SWEPCO/ETEC/Rayburn Early Term Ag/Letter Ag Cancel to be effective 5/25/2023.

Filed Date: 8/12/24.

Accession Number:20240812-5018.

Comment Date: 5 p.m. ET 9/3/24.

Docket Numbers: ER24-2753-000.

Applicants: Entergy Arkansas, LLC.

Description:§ 205(d) Rate Filing: Long Lake Solar LBA Agreement to be effective 8/14/2024.

Filed Date: 8/12/24.

Accession Number: 20240812-5031.

Comment Date: 5 p.m. ET 9/3/24.

Docket Numbers: ER24-2754-000.

Applicants: Western Maine Renewables, LLC.

Description: Baseline eTariff Filing: Western Maine Renewables, LLC MBR Tariff to be effective 10/12/2024.

Filed Date: 8/12/24.

Accession Number: 20240812-5050.

Comment Date: 5 p.m. ET 9/3/24.

Docket Numbers: ER24-2755-000.

Applicants: AEP Texas Inc.

Description: § 205(d) Rate Filing: AEPTX-Pintail Pass BESS 2nd A&R Generation Interconnection Agreement to be effective 7/18/2024.

Filed Date: 8/12/24.

Accession Number: 20240812-5095.

Comment Date: 5 p.m. ET 9/3/24.

Docket Numbers: ER24-2756-000.

Applicants: AEP Texas Inc.

Description: § 205(d) Rate Filing: AEPTX-Sunscape Renewable Energy Generation Interconnection Agreement to be effective 7/18/2024.

Filed Date: 8/12/24.

Accession Number: 20240812-5101.

Comment Date: 5 p.m. ET 9/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 12, 2024.
Debbie-Anne A. Reese,
Acting Secretary.

[FR Doc. 2024-18466 Filed 8-16-24; 8:45 am]

BILLING CODE 6717-01-P